DEPARTMENT OF LABOR

Employment and Training Administration

[TA-W-63,197]

Dan River, Inc.; Danville Operations; Danville, VA; Notice of Revised Determination on Reconsideration

On July 11, 2008, the Department issued an Affirmative Determination Regarding Application on Reconsideration applicable to workers and former workers of the subject firm. The notice was published in the Federal Register on July 21, 2008 (73 FR 42368).

In the request for reconsideration, the petitioner provided new information regarding production at the subject facility. The petitioner stated that workers of the subject facility produced various package labels and packaging materials.

The Department contacted a company official to address this allegation. Based on information provided by the company official, the Department determined that workers of the subject firm were engaged in the production of package labels and packaging material in 2007 and January through April 2008.

The investigation also revealed that the subject firm has shifted production of package labels and packaging material to China, Pakistan and India impacting workers at the Danville plant. The investigation also revealed that the firm increased imports of package labels and packaging material during the relevant period.

In accordance with Section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act, as amended, must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to China, Pakistan and India of articles that are like or directly competitive with those produced by the subject firm or subdivision, and there has been or is likely to be an increase in imports of like or directly competitive articles. In accordance with the provisions of the Act, I make the following certification:

All workers of Dan River, Inc., Danville Operations, Danville, Virginia, who became totally or partially separated from employment on or after April 14, 2007, through two years from the date of this certification, are eligible to apply for adjustment assistance under Section 223 of the Trade Act of 1974, and are eligible to apply for alternative trade adjustment assistance under Section 246 of the Trade Act of 1974.

Signed in Washington, DC, this 27th day of August 2008.
Elliott S. Kushner,
Certifying Officer, Division of Trade Adjustment Assistance.

[FR Doc. E8-20689 Filed 9-5-08; 8:45 am]

BILLING CODE 4510-FN-P